ENVIRONMENTAL PROTECTION AGENCY

[FRL-8158-1]

Science Advisory Board Staff Office; Notification of a Upcoming Meeting of a Subcommittee of the Science Advisory Board Committee on Valuing the Protection of Ecological Systems and Services

AGENCY: Environmental Protection Agency (EPA).

ACTION: Notice.

SUMMARY: The EPA Science Advisory Board (SAB) Staff Office announces a public meeting of a Subcommittee of the Science Advisory Board Committee on Valuing the Protection of Ecological Systems and Services (C-VPESS) to gather information related to ecological valuation activities of interest to EPA Region 5 in its work with Chicago Wilderness.

DATES: A public fact-finding meeting of the C-VPESS will be held from 10 a.m. to 12 p.m (Central Time) on April 28, 2006.

ADDRESSES: The meeting will take place in Room 61 of the Ralph Metcalfe Federal Building, 77 West Jackson Blvd., Chicago, Illinois 60604.

FOR FURTHER INFORMATION CONTACT: Members of the public wishing further information regarding the SAB C-VPESS subcommittee meeting may contact Dr. Angela Nugent, Designated Federal Officer (DFO), via telephone at: (202) 343-9981 or e-mail at: nugent.angela@epa.gov. The SAB mailing address is: U.S. EPA, Science Advisory Board (1400F), 1200 Pennsylvania Avenue, NW., Washington, DC 20460. General information about the SAB, as well as any updates concerning the meeting announced in this notice, may be found on the SAB Web site at: http://www.epa.gov/sab.

SUPPLEMENTARY INFORMATION: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background

Background on the SAB C-VPESS and its charge was provided in 68 FR 11082 (March 7, 2003). The purpose of this fact-finding meeting is for the Subcommittee to gather information related to ecological valuation activities of interest to EPA Region 5 in its work with Chicago Wilderness.

The Subcommittee will evaluate this information in drafting a component of a planned report on application of methods for valuing the protection of ecological systems and services. This fact-finding activity is related to the Committee's overall charge: to assess Agency needs and the state of the art and science of valuing protection of ecological systems and services and to identify key areas for improving knowledge, methodologies, practice, and research.

Availability of Meeting Materials

Materials in support of this meeting will be placed on the SAB Web site at http://www.epa.gov/sab/ in advance of this meeting.

Procedures for Providing Public Input

Interested members of the public may submit relevant written or oral information for the SAB to consider during the advisory process.

Oral Statements: In general, individuals or groups requesting an oral presentation at a public meeting will be limited to five minutes per speaker, with no more than a total of one hour for all speakers. Interested parties should contact Dr. Nugent, DFO, at the contact information noted above, by April 20, 2006, to be placed on the public speaker list for the April 28, 2006 meeting.

Written Statements: Written statements should be received in the SAB Staff Office by April 20, 2006, so that the information may be made available to the Subcommittee for their consideration prior to this meeting. Written statements should be supplied to the DFO in the following formats: one hard copy with original signature, and one electronic copy via e-mail (acceptable file format: Adobe Acrobat PDF, WordPerfect, MS Word, MS PowerPoint, or Rich Text files in IBM-PC/Windows 98/2000/XP format).

Meeting Access

For information on access or services for individuals with disabilities, please contact Dr. Angela Nugent at (202) 343-9981 or nugent.angela@epa.gov. To request accommodation of a disability, please contact Dr. Nugent, preferably at least 10 days prior to the meeting to give EPA as much time as possible to process your request.

Dated: April 7, 2006.
Anthony Maciorowski,
Associate Director for Science, EPA Science Advisory Board Staff Office.

[FR Doc. E6-5422 Filed 4-11-06; 8:45 am]

BILLING CODE 6560-50-P